DEPARTMENT OF HEALTH AND HUMAN SERVICES

Centers for Disease Control and Prevention

[60Day-09-09BH]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-639-5960 and send comments to Maryam I. Daneshvar, CDC Acting Reports Clearance Officer, 1600 Clifton Road, MS-D74, Atlanta, GA 30333 or send an email to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

Assessing the Safety Culture of Underground Coal Mining—New—National Institute for Occupational Safety and Health, (NIOSH), Centers for Disease Control and Prevention, (CDC).

Background and Brief Description

NIOSH, under Public Law 91-596, Sections 20 and 22 (Section 20-22, Occupational Safety and Health Act of 1970) has the responsibility to conduct research relating to innovative methods, techniques, and approaches dealing with occupational safety and health problems.

This research would relate to occupational safety and health problems in the coal mining industry. In recent years, coal mining safety has attained national attention due to highly publicized disasters. Despite these threats to worker safety and health, the U.S. relies on coal mining to meet its electricity needs. For this reason, the coal mining industry must continue to find ways to protect its workers while maintaining productivity. One way to do so is through improving the safety culture at coal mines. In order to achieve this culture, operators, employees, the inspectorate, etc. must share a fundamental commitment to it as a value. This type of culture is known in other industries as a “safety culture” and can be defined as the characteristics of the work environment, such as the norms, rules, and common understandings that influence facility personnel's perceptions of the importance that the organization places on safety.

NIOSH proposes an assessment of the current safety culture of underground coal mining in order to identify recommendations for promoting and ensuring the existence of a positive safety culture across the industry. A total of 6 underground coal mines will be studied for this assessment. The assessment includes the collection of data using several diagnostic tools: functional analysis, structured interviews, behavioral observations, and surveys. The functional analysis will involve the review of documents and discussions with mine staff in order to gain an understanding of the organizations' intent with regard to the behaviors that contribute to safety culture. After the functional analysis has been conducted, interviews with different positions across the organization will be conducted. The interviews will provide information about the employees' perceptions regarding the values of the organization with regard to the behaviors important to safety. At the end of the interview, interviewees will be asked to complete 4 behavioral anchored rating scales on topics discussed during the interview. This tool provides the interviewee with another way to express their opinions and attitudes about some of the behaviors important to safety culture. Additionally, behavioral observations will be conducted of activities such as shift turnovers, training, meetings, and responses to events to gain an understanding of the organization's behaviors in real time. Finally, an anonymous survey will be administered which provides a quantitative and objective way of collecting information about the organizational behaviors important to safety culture.

The use of multiple methods to assess safety culture is a key aspect to the methodology. After all of the information has been gathered, a variety of statistical and qualitative analyses are conducted on the data to obtain conclusions with respect to the mine's safety culture. The results from these analyses will be presented in a report describing the status of the behaviors important to safety culture at that mine.

This project will provide recommendations for the enactment of new safety practices or the enhancement of existing safety practices across the underground coal mining industry. This final report will present a generalized model of a positive safety culture for underground coal mines that can be applied at individual mines. In addition, all study measures and procedures will be available for mines to use in the future to evaluate their own safety cultures.

There is no cost to respondents other than their time.

Estimated Annualized Burden Hours
Phase | Number of respondents | Number of responses per respondent | Average burden per response (in hours) | Total burden (in hours)
Survey; year one | 500 | 1 | 20/60 | 167
Interviews, year one | 100 | 1 | 1 | 100
Survey; year two | 400 | 1 | 20/60 | 133
Interviews, year two | 80 | 1 | 1 | 80
Total |  |  |  | 480

Dated: March 25, 2009.
Maryam I. Daneshvar,
Acting Reports Clearance Officer, Centers for Disease Control and Prevention.

[FR Doc. E9-7171 Filed 3-30-09; 8:45 am]

BILLING CODE 4163-18-P